DEPARTMENT OF COMMERCE

Bureau of Industry and Security

Transportation and Related Equipment Technical Advisory Committee; Notice of Open Meeting

The Transportation and Related Equipment Technical Advisory Committee will meet on November 9, 2005, 9:30 a.m., in the Herbert C. Hoover Building, Room 6087B, 14th Street between Pennsylvania & Constitution Avenues, NW., Washington, DC. The Committee advises the Office of the Assistant Secretary for Export Administration with respect to technical questions that affect the level of export controls applicable to transportation and related equipment or technology.

Agenda

1. Welcome and Introductions.

2. Review of Bureau issues of significance to TRANSTAC members.

3. Regulatory overview.

4. Policy issues.

5. Missile Technology Control Regime.

6. Wassenaar proposal status.

7. Jurisdiction working group report.

8. Presentation of papers and comments by the public.

9. Follow-up on open action items.

The meeting will be open to the public and a limited number of seats will be available. Reservations are not accepted. To the extent time permits, members of the public may present oral statements to the Committee. Written statements may be submitted at any time before or after the meeting. However, to facilitate distribution of public presentation materials to Committee members, the Committee suggests that presenters forward the public presentation materials to Yvette Springer at Yspringer@bis.doc.gov.

For more information contact Ms. Springer on (202) 482-4814.

Dated: October 11, 2005.
Yvette Springer,
Committee Liaison Officer

[FR Doc. 05-20692 Filed 10-14-05; 8:45 am]

BILLING CODE 3510-JT-M